DEPARTMENT OF LABOR

Employment and Training Administration

[TA-W-74,549]

Algonac Cast Products, Inc., Algonac, MI; Notice of Affirmative Determination Regarding Application for Reconsideration

By application dated October 25, 2010, a worker requested administrative reconsideration of the negative determination regarding workers' eligibility to apply for Trade Adjustment Assistance (TAA) applicable to workers and former workers of Algonac Cast Products, Inc., Algonac, Michigan (subject firm). The determination was issued on September 24, 2010. The Department's Notice of Determination was published in the Federal Register on October 8, 2010 (75 FR 62427). The workers are engaged in activities related to the production of marine hardware (i.e. rudders, struts, stuffing boxes, rudder arm, rudder support, rudder clevis, etc.) and are not separately identifiable by article produced.

The negative determination was based on the Department's findings that the subject firm did not import or shift their production of marine hardware to a foreign country during the relevant period; that the customers did not increase their reliance on imported marine hardware while concurrently decreasing their purchases from the subject firm; that worker separations or threats of separation were not related to an increase in imports of marine hardware; and that the workers did not produce an article that was incorporated in the production of an article by a firm whose workers were certified eligible to apply for TAA.

The request for reconsideration alleged that a lost bid with Sea Ray Boats Corporation contributed importantly to worker separations at the subject firm.

The Department has carefully reviewed the request for reconsideration and the existing record, and has determined that the Department will conduct further investigation to determine if the petitioning workers meet the eligibility requirements of the Trade Act of 1974, as amended.

Conclusion

After careful review of the application, I conclude that the claim is of sufficient weight to justify reconsideration of the U.S. Department of Labor's prior decision. The application is, therefore, granted.

Signed at Washington, DC, this 10th day of November, 2010.
Del Min Amy Chen,
Certifying Officer, Office of Trade Adjustment Assistance.

[FR Doc. 2010-29434 Filed 11-22-10; 8:45 am]

BILLING CODE 4510-FN-P